DEPARTMENT OF HEALTH AND HUMAN SERVICES

Food and Drug Administration

[Docket No. 00P-1378]

Draft Guidance for Industry on Labeling for Topically Applied Cosmetic Products Containing Alpha Hydroxy Acids as Ingredients; Availability; Correction

AGENCY: Food and Drug Administration, HHS.

ACTION: Notice; correction.

SUMMARY: The Food and Drug Administration (FDA) is correcting a notice that appeared in the Federal Register of December 2, 2002 (67 FR 71577). The document announced the availability of a draft guidance entitled “Guidance for Industry: Labeling for Topically Applied Cosmetic Products Containing Alpha Hydroxy Acids as Ingredients.” The document was published with an inadvertent error. This document corrects that error.

FOR FURTHER INFORMATION CONTACT: Joyce Strong, Office of Policy (HF-27), Food and Drug Administration, 5600 Fishers Lane, Rockville, MD 20857, 301-827-7010.

SUPPLEMENTARY INFORMATION: In FR Doc. 02-30340, appearing on page 71577 in the Federal Register of Monday, December 2, 2002, the following correction is made:

1. On page 71577, in the third column, in the second paragraph, in the third line, “-hydroxyoctanoic acid, and -hydroxydecanoic acid” is corrected to read “α-hydroxyoctanoic acid, and α-hydroxydecanoic acid”.

2. On page 71578, in the third column, under “IV. References,” in reference 1., in the third line, “-Hydroxy Acids” is corrected to read “α-Hydroxy Acids”.

Dated: December 18, 2002.
Margaret M. Dotzel,
Assistant Commissioner for Policy.

[FR Doc. 02-32613 Filed 12-24-02; 8:45 am]

BILLING CODE 4160-01-S